DEPARTMENT OF HEALTH AND HUMAN SERVICES

Centers for Disease Control and Prevention

[30Day-17-0728]

Agency Forms Undergoing Paperwork Reduction Act Review

In accordance with the Paperwork Reduction Act of 1995, the Centers for Disease Control and Prevention (CDC) has submitted the information collection request titled National Notifiable Diseases Surveillance System to the Office of Management and Budget (OMB) for review and approval. CDC previously published a “Proposed Data Collection Submitted for Public Comment and Recommendations” notice on December 26, 2016 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agency's estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW., Washington, DC 20503 or by fax to (202) 395-5806. Provide written comments within 30 days of notice publication.

Proposed Project

National Notifiable Diseases Surveillance System (0920-0728, January 31, 2019)—Revision—Center for Surveillance, Epidemiology and Laboratory Services (CSELS), Centers for Disease Control and Prevention (CDC).

Background and Brief Description

The Public Health Services Act (42 U.S.C. 241) authorizes CDC to disseminate nationally notifiable condition information. The National Notifiable Diseases Surveillance System (NNDSS) is based on data collected at the state, territorial and local levels as a result of legislation and regulations in those jurisdictions that require health care providers, medical laboratories, and other entities to submit health-related data on reportable conditions to public health departments. These reportable conditions, which include infectious and non-infectious diseases, vary by jurisdiction depending upon each jurisdiction's health priorities and needs. Infectious disease agents and environmental hazards often cross geographical boundaries. Each year, the Council of State and Territorial Disease Epidemiologists (CSTE), supported by CDC, determines which reportable conditions should be designated nationally notifiable or under standardized surveillance and voluntarily submitted to CDC so that information can be shared across jurisdictional boundaries and surveillance and prevention and control activities can be coordinated at regional and national levels.

CDC requests a three-year approval for this Revision, which includes requests to receive: (1) Case notification data from the Federated States of Micronesia, the Republic of the Marshall Islands, and the Republic of Palau (independent nations that operate under a Compact of Free Association with the United States of America that are commonly referred to as “freely associated states”); (2) new laboratory data elements for all conditions; (3) new data elements for all vaccine-preventable diseases (VPDs); (4) new data elements for the following conditions that are already approved: Congenital Rubella Syndrome (CRS), Salmonellosis, Shigellosis, Campylobacteriosis, Shiga toxin-producing Escherichia coli (STEC), Hepatitis, and Hantavirus Pulmonary Syndrome (HPS); (5) case notification data for histoplasmosis which is now under standardized surveillance; (6) case notification data for Acute Flaccid Myelitis (AFM) which is now under standardized surveillance; and (7) case notification data for all enteric Escherichia coli infections should any of them become nationally notifiable or be placed under standardized surveillance. CDC already has approval to receive case notification data for STEC, which is nationally notifiable.

The burden estimates include the number of hours that the public health department uses to process and send case notification data from their jurisdiction to CDC. Specifically, the burden estimates include separate burden hours incurred for automated and non-automated transmissions, separate weekly burden hours incurred for modernizing surveillance systems as part of NNDSS Modernization Initiative (NMI) implementation, separate burden hours incurred for annual data reconciliation and submission, and separate one-time burden hours incurred for the addition of new diseases and data elements. These estimates are based on information from CDC employees that manage the NMI effort and conduct site visits to provide technical assistance to help the public health departments modernize their surveillance systems. The estimated annual burden is 18,529 hours.

Estimated Annualized Burden Hours
Type of respondents | Form name | Number of respondents | Number of responses per respondent | Average burden per response (in hours)
States | Weekly (Automated) | 50 | 52 | 20/60
States | Weekly (Non-automated) | 10 | 52 | 2
States | Weekly (NMI Implementation) | 50 | 52 | 4
States | Annual | 50 | 1 | 75
States | One-time Addition of Diseases and Data Elements | 50 | 1 | 8
Territories | Weekly (Automated) | 1 | 52 | 20/60
Territories | Weekly, Quarterly (Non-automated) | 5 | 56 | 20/60
Territories | Weekly (NMI Implementation) | 5 | 52 | 4
Territories | Annual | 5 | 1 | 5
Territories | One-time Addition of Diseases and Data Elements | 1 | 1 | 10/60
Freely Associated States | Weekly, Quarterly (Non-automated) | 3 | 56 | 20/60
Freely Associated States | Annual | 3 | 1 | 5
Cities | Weekly (Automated) | 2 | 52 | 20/60
Cities | Weekly (Non-automated) | 2 | 52 | 2
Cities | Weekly (NMI Implementation) | 2 | 52 | 4
Cities | Annual | 2 | 1 | 75
Cities | One-time Addition of Diseases and Data Elements | 2 | 1 | 8

Leroy A. Richardson,
Chief, Information Collection Review Office, Office of Scientific Integrity, Office of the Associate Director for Science, Office of the Director, Centers for Disease Control and Prevention.

[FR Doc. 2017-22199 Filed 10-12-17; 8:45 am]

BILLING CODE 4163-18-P